FEDERAL MARITIME COMMISSION

[Fact Finding Investigation No. 28]

Conditions and Practices Relating to Detention, Demurrage, and Free Time in International Oceanborne Commerce; Order of Investigation

AGENCY: Federal Maritime Commission.

DATES: The Order of Investigation was served March 5, 2018.

ACTION: Notice of Order of Investigation.

Authority: 46 CFR 502.281 et seq.

SUPPLEMENTARY INFORMATION: On March 5, 2018, the Federal Maritime Commission instituted a Fact Finding Investigation entitled Conditions and Practices Relating to Detention, Demurrage, and Free Time in International Oceanborne Commerce. Acting pursuant to 46 CFR 502.281 et seq., the Commission has designated Commissioner Rebecca F. Dye as Investigative Officer to develop a record and final report by December 2, 2018 on the following:

1. Whether, and if so, how, the alignment of commercial, contractual, and cargo interests enhance or aggravate the ability of cargo to move efficiently through United States ports.

2. Whether, and if so, when, the carrier or MTO has tendered cargo to the shipper and consignee.

3. Billing practices for invoicing demurrage or detention.

4. Practices with respect to delays caused by various outside or intervening events.

5. Practices for resolution of demurrage and detention disputes between carriers or MTOs and shippers.

The Order may be viewed in its entirety at https://www.fmc.gov/ff_no._28/.

Rachel E. Dickon,
Secretary.

[FR Doc. 2018-04816 Filed 3-8-18; 8:45 am]

BILLING CODE 6731-AA-P